DEPARTMENT OF TRANSPORTATION

Federal Motor Carrier Safety Administration

49 CFR Parts 385 and 390

[Docket No. FMCSA-98-3947 (Formerly Docket No. FHWA-98-3947)]

RIN 2126-AA14 (Formerly 2125-AD49)

Federal Motor Carrier Safety Regulations; General; Commercial Motor Vehicle Marking

AGENCY: Federal Motor Carrier Safety Administration (FMCSA), DOT.

ACTION: Final rule.

SUMMARY: The FMCSA is revising its requirements concerning the marking of commercial motor vehicles (CMVs) and for the submission of a Motor Carrier Identification Report (Form MCS-150) to the agency. The FMCSA is eliminating the marking regulations of the former Interstate Commerce Commission (ICC), and requiring motor carriers to apply markings that conform to the requirements of this final rule. The agency is also amending its marking requirements to require that CMVs be marked with the legal name of the business entity that owns or controls the motor carrier operation, or the “doing business as” (DBA) name, as it appears on the Form MCS-150. Motor carriers will be allowed two years to comply with the requirement to affix the USDOT number to both sides of their CMVs, and five years to comply with the additional requirements to display the legal name or a single trade name on the CMVs currently in their fleet. The FMCSA is redesignating the regulation that requires motor carriers to submit the Form MCS-150, and requiring that all new interstate motor carriers submit a Form MCS-150 to the FMCSA before (rather than within 90 days after) commencing operations. These revisions are intended to enhance the ability of the FMCSA, the States, and the general public to identify motor carriers. The FMCSA also revises the listing for locations of motor carrier safety Service Centers to reflect recent changes to the agency organizational structure. They were originally included in the NPRM concerning safety fitness procedures [RIN 2126-AA42, formerly RIN 2125-AE56, Docket No. OMCS-99-5467 (formerly Docket No. FHWA-99-5467)] (64 FR 44460, August 16, 1999).

EFFECTIVE DATE: July 3, 2000.

FOR FURTHER INFORMATION CONTACT: Ms. Deborah M. Freund, Office of Bus and Truck Operations, Routing Code MC-PSV, (202) 366-4009; or Mr. Charles E. Medalen, Office of the Chief Counsel, HCC-20, (202) 366-1354, Federal Highway Administration, 400 Seventh Street, SW., Washington, DC 20590. Office hours are from 7:45 a.m. to 4:15 p.m., e.t., Monday through Friday, except Federal holidays.

SUPPLEMENTARY INFORMATION:

Electronic Access

Internet users may access all comments received by the U.S. DOT Dockets, Room PL-401, by using the universal resource locator (URL): http://dms.dot.gov. It is available 24 hours each day, 365 days each year. Please follow the instructions online for more information and help.

An electronic copy of this document may be downloaded by using a computer, modem and suitable communication software from the Government Printing Offices's Electronic Bulletin Board Service at (202) 512-1661. Internet users may reach the Office of Federal Register's home page at: http://www.nara.gov/fedreg and the Government Printing Office's web page at: http://www.access.gpo.gov/nara.

Background

On January 28, 1992, the FHWA published a final rule (57 FR 3142) which required interstate motor carriers to mark their interstate CMVs with specific information, including the USDOT number (see 49 CFR 390.21). The final rule, however, provided an exception for motor carriers authorized by the former ICC to conduct operations as a for-hire motor carrier. These motor carriers were required to comply only with the marking provisions in former 49 CFR part 1058, now redesignated as 49 CFR 390.401, 390.403, 390.405, and 390.407 (61 FR 54706, 54710, October 21, 1996).

The ICC Termination Act of 1995 (ICCTA) (Pub. L. 104-88, 109 Stat. 803) was enacted on December 29, 1995, and became effective on January 1, 1996. The ICCTA abolished the ICC, amended subtitle IV of title 49, United States Code, reformed the economic regulation of transportation, and transferred the assets, personnel, and many of the duties and functions of the ICC to the Secretary of Transportation (Secretary).

On June 16, 1998, the FHWA published a notice of proposed rulemaking (NPRM) (63 FR 32801) to amend its regulations concerning the marking of CMVs and the submission of the Form MCS-150. The agency proposed (1) To eliminate the marking regulations of the former ICC and to require motor carriers to replace the vehicle markings specified by those requirements with markings that conform to 49 CFR 390.21; (2) to amend its current rule to require that CMVs be marked with the legal name of the business entity that owns or controls the motor carrier operation, or the “doing business as” name, and the city and State for the principal place of business as they appear on the Form MCS-150; (3) to allow motor carriers two years to comply with the marking requirement (i.e., to display the USDOT number on both sides of their self-propelled CMVs), and five years to comply with the additional requirements to display the address of the principal place of business and the legal name, or a single trade name; (4) to amend the regulations to require all new interstate motor carriers submit a Form MCS-150 to the FMCSA before (rather than within 90 days after) commencing operations; and (5) to move the regulations that require motor carriers to submit the Form MCS-150 from 49 CFR part 385 to part 390.

Discussion of Comments to the NPRM

The FMCSA received 196 comments in response to the NPRM.

The commenters were: the American Trucking Associations (ATA) ; the New York State Motor Truck Association Inc. (NYSMTA); the National Automobile Dealers Association (NADA); the National Automobile Transporters Association (NATA); Bonanza Bus Lines; Yellow Corporation; the Association of Waste Hazardous Materials Transporters (AWHMT); ATC Leasing Company; the New Jersey Motor Truck Association; the Iowa Department of Transportation; United Parcel Service (UPS); the Missouri Division of Motor Carrier and Railroad Safety (Missouri DMCRS); Consolidated Freightways (CF); the South Carolina Trucking Association, Inc.; GROWMARK, Inc.; the Truck Renting and Leasing Association (TRALA); the Georgia Public Service Commission; Distribution & LTL Carriers Association; the National Private Truck Council (NPTC); J.B. Hunt; ConAgra Inc.; North American Van Lines, Inc. (NAVL); the Truckload Carriers Association (TCA); the National Association of Small Trucking Companies (NASTC); the Illinois State Police; the Colorado Department of Public Safety; Roadway Express; the American Moving and Storage Association (AMSA); the State of New York Department of Transportation; Peninsula Transport, Inc., and an additional 167 motor carriers. The following is a summary of the comments on some of the key items addressed in the notice.

Relationship to Unified Motor Carrier Registration System Rulemaking

Although most commenters did not oppose in principle the FMCSA's proposal to require self-propelled CMVs to be marked with a USDOT number, several of them, including the ATA, UPS, and the Distribution & LTL Carriers Association, recommended that the FMCSA delay this rulemaking pending the implementation of the congressionally mandated Unified Motor Carrier Registration System (Unified System). The Unified System is intended to provide a comprehensive foundation for registration, insurance, and safety information. The commenters asserted that the Unified System would help solve many of the problems mentioned in the NPRM, including matching the motor carrier (MC) and USDOT numbers. Commenters also suggest that the Unified System could be designed to include all of a motor carrier's DBA names and other identifying information.

The New York State DOT notes that it is participating in discussions with the U.S. DOT and others concerning the consolidation of the Unified System and the Single State Registration System (SSRS). New York believes there is conceptual agreement among the majority of SSRS States concerning assignment of USDOT numbers for both interstate and intrastate motor carriers, and asks that the FMCSA's regulation facilitate this approach. The Illinois State Police believes that many States already have the infrastructure in place to support a national motor carrier identification system.

The NASTC categorically opposes the NPRM, believing that the MC number is necessary for State and Federal officials, and the traveling public, to distinguish for-hire from private motor carriers.

FMCSA Response

Section 103 of the ICCTA, which, among other things, added 49 U.S.C. 13908, required the Secretary to initiate a rulemaking proceeding to replace the current Department of Transportation identification number system, the SSRS under 49 U.S.C. 14504, the registration/licensing system contained in 49 U.S.C. 13901-13905, and the financial responsibility information system under 49 U.S.C. 13906 with a single, online Federal system.

On August 26, 1996, the agency published an advance notice of proposed rulemaking (ANPRM) on the Motor Carrier Replacement Information/Registration System which posed several questions and requested comments on all of these issues raised by the commenters.

The FMCSA agrees there are items proposed in the Commercial Motor Vehicle Marking NPRM that are related to the Registration rulemaking. However, the FMCSA considers the requirement to mark a CMV with the USDOT number as a vehicle identification issue, not a registration issue. Therefore, the FMCSA will move forward with its requirement to mark CMVs with the USDOT number assigned to each motor carrier.

The filing of the Form MCS-150 is not considered a registration issue in the context of the Motor Carrier Replacement Information/Registration System because the agency is not changing the applicability of the regulation, only the time the document must be filed. The current requirement allows a new motor carrier to file the Form MCS-150 within 90 days after beginning operations. The FMCSA believes it is important that CMVs be properly marked before they are placed into service on the highway. Such markings will assist State officials conducting roadside inspections and accident investigations in attributing important safety data to the correct motor carrier. It will also ensure the public has an effective means to identify motor carriers operating in an unsafe manner.

The FMCSA has streamlined the process for filing the Form MCS-150 by making it available on the Internet. Motor carriers seeking a copy of Form MCS-150 may obtain it from the Internet through the Federal Motor Carrier Safety Administration web page at: http://www.mcs.dot.gov/factsfigs/formspubs.htm under “DOT Number—Application Form.” Motor carriers may download the Form MCS-150, complete it, and submit it by mail or by facsimile. Motor carriers may also obtain copies of the form from any of the four FMCSA Service Centers or the fifty-two Division Offices. A for-hire motor carrier should submit the Form MCS-150 along with its application for operating authority (Form OP-1) to the appropriate address referenced on that form or may submit it separately to the address mentioned on the web page.

The FMCSA has also made a determination that the USDOT number will be the number used to identify all motor carriers in the information/registration system of the future. Currently, all interstate motor carriers (both for-hire and private) are assigned USDOT numbers. Also, several States require intrastate motor carriers to complete Form MCS-150 and obtain a USDOT identification number. These motor carriers are listed in the Motor Carrier Management Information System (MCMIS) as intrastate-only carriers. The addition of these motor carriers to the MCMIS enables the States to work together in determining the number of active motor carriers operating in the United States, and to monitor the safety performance of the motor carriers.

Another reason to use the USDOT number as the key identifier for all motor carriers is the role that it plays in the Performance and Registration Information Systems Management (PRISM) project. The PRISM project is a cooperative Federal/State program that makes motor carrier safety a requirement for obtaining and keeping commercial motor vehicle registration privileges. The performance of unsafe motor carriers is improved through a program of progressively more stringent sanctions leading to a possible Federal operations out-of-service order and suspension of their State issued vehicle registration privileges. The vehicle registration records contain the USDOT number as a unique identifier of the motor carrier responsible for the safety of the CMVs.

Single Trade Name

ConAgra, Inc., the ATA, the TCA, NAVL, and other commenters oppose the single trade name proposal and believe the FMCSA should allow small subsidiaries and divisions of large national carriers to maintain their own identities. They contend that local operations of national carriers want to maintain the connection to the local communities they served over the years. They claim that limiting carriers to a single trade name will dramatically impact a number of large carriers in ways that the FMCSA may not have fully considered.

FMCSA Response

The FMCSA agrees with the commenters. The FMCSA will consider requests for assignment of individual USDOT numbers to corporate divisions on a case-by-case basis. While the FMCSA does not wish to limit an organization's flexibility, or its ability to promote a trade name, we nevertheless must consider whether the assignment of multiple USDOT numbers to a single corporate entity will compromise the integrity of the collection and processing of safety data.

Principal Place of Business Address

With regard to the proposed language concerning the requirement for motor carriers to display only the location of their principal place of business, the ATA, the NPTC, UPS, CF, Roadway Express, Yellow Corporation, NAVL, the Georgia Public Service Commission, and a number of other motor carriers and associations strongly oppose any change to the existing regulation. Most argue that the principal place of business address, being the third way to identify the motor carrier (after the USDOT number and the single trade name), does not help much if the first two are correct or incorrect. While most commenters agree that some type of number is needed to help match safety records, they don't believe that the address of the principal place of business provides the same benefit. They believe the cost to the motor carrier to accomplish the change definitely outweighs any perceived advantage.

The New York State DOT opposes the proposal because it believes that motor carriers would be prohibited from displaying the location where a CMV is customarily based. The agency cited an example of a motor carrier of passengers that has acquired various New York based carriers. New York prefers to retain the location identification to aid them in tracking the performance of the individual subsidiaries.

FMCSA Response

The FMCSA agrees with the commenters; the motor carrier name and the unique USDOT number should be sufficient to properly identify the motor carrier. The FMCSA does not believe it is necessary to include in the final rule the requirement to display the city and State. As UPS noted, unless there is an error in the collection of the original data, there should be no instance in which two motor carriers have both the same name and the same USDOT number. The use of an address does not ensure the accurate collection of data and imposes an additional and unjustified burden on the industry.

As for the comments of the New York State DOT, the final rule does not require motor carriers to mark their motor vehicles with the city and State, but does not prohibit the practice either. The FMCSA believes that many motor carriers will continue to display the city and State for marketing purposes and to maintain a connection to the local communities they serve.

Periodic Update of the Form MCS-150

The ATA, Distribution and LTL Carriers Association, New York State DOT, and AWHMT have suggested the FMCSA require motor carriers to periodically update the information contained on the MCS-150. They say the information initially reported on the Form MCS-150 may change over time. Inasmuch as the FMCSA uses this information to calculate a motor carrier's accident rate for safety rating purposes, the commenters believe the FMCSA has a vested interest in requiring a periodic update of Form MCS-150 to ensure the integrity of the data.

FMCSA Response

The 1996 ANPRM on the unified information/registration system (61 FR 43816) addresses this issue. One of the questions included there was the same as that asked by the AWHMT, the ATA, and the New York DOT.

Section 217 of the Motor Carrier Safety Improvement Act of 1999 requires the FMCSA to require motor carriers to periodically update the information they provide in the form MCS-150. An initial update is required by December 2000. Periodic updates would be required not more frequently than once every two years. The FMCSA will address this provision in a separate rulemaking action.

Marking of Foreign and Intrastate Motor Carriers' Power Units

The AWHMT requested that the FMCSA consider if there is a potential for reciprocity between the CMV marking requirements of Canada and Mexico and those currently contained in and proposed for the FMCSRs.

UPS commented that motor carriers subject to the FMCSA's regulations that operate portions of their fleets within single jurisdictions are subject to the additional marking requirements of those jurisdictions. For example, State Public Utilities Commissions often impose their own marking requirements. UPS stated that it, as well as other motor carriers and the ATA, had filed comments in Docket MC 96-25 [Motor Carrier Replacement Information/Registration System, now DOT Docket 1997-2349] recommending that the USDOT's marking requirements be the sole method to identify CMVs operated by motor carriers under the FMCSA's jurisdiction.

The NYSMTA asked the FMCSA to consider preempting the marking requirements of State or local jurisdictions for vehicles bearing USDOT numbers that are not domiciled within that jurisdiction. The NYSMTA noted that a city requires the marking of a street address. The Missouri DMCRS requested that States be allowed to continue to require display of additional information, such as the GVW or the GVWR, on power units that are registered solely for intrastate operation.

GROWMARK was concerned that States may require different timeframes from the FMCSA for implementing a marking requirement.

The AWHMT referenced the Hazardous Materials Transportation Act (Public Law 101-615, 104 Stat. 3244, November 16, 1990) safety permit provisions, not yet implemented by the FMCSA. It asked if the FMCSA might consider a requirement for displaying the USDOT number on the CMVs of motor carriers engaged in the transportation of hazardous materials in intrastate commerce as an initial step toward implementing the permit system.

FMCSA Response

Concerning reciprocal marking requirements among the United States, Canada, and Mexico, the general requirements contained in § 390.21 have been in place since 1954 for for-hire motor carriers operating in interstate commerce. They have been in place since 1988 for private motor carriers operating in interstate commerce. No other commenters raised this issue, and the FMCSA is not aware that the provisions have caused compliance difficulties for foreign-based motor carriers.

Concerning the questions raised by the NYSMTA about a local jurisdiction's requirement for listing a full street address, and the Missouri DMCSR's question about a State's requirement for the display of a GVW or GVWR on intrastate-only CMVs, any other identifying information may continue to be displayed, as long as it is not inconsistent with other § 390.21 requirements. Responding to GROWMARK's comment, the marking requirement proposed will apply only to motor carriers operating in interstate commerce. The FMCSA anticipates that States would allow these motor carriers the phase-in period established in this rulemaking action.

Finally, concerning the AWHMT's comment concerning the potential for issuing USDOT numbers to intrastate motor carriers transporting hazardous materials, the agency is continuing to address permitting in a separate rulemaking action.

Submittal of MCS-150 and Display of USDOT Number Upon Commencing Operations

The FMCSA's current regulation requires that all new motor carriers submit a Form MCS-150 to the agency within 90 days of commencing operations. The NPRM proposed that all new motor carriers submit a Form MCS-150 to the FMCSA before commencing operations. The NPRM also proposed that all CMVs added to a motor carrier's fleet on or after the effective date of the rule must display the motor carrier's USDOT number before being put into service.

The FMCSA received no adverse comments on this provision of the NPRM. The final rule will implement it as proposed.

Time to Comply With Regulations

Commenters' responses pertaining to the proposed length of time for motor carriers to comply with the marking requirements (two years for the USDOT number and five years for the principal place of business and single trade name) varied widely. Commenters suggested phase-in periods that varied from two years for some of the smaller motor carriers to seven years for those carriers having large fleets. Some commenters suggested the FMCSA consider a single date for motor carriers to meet all the requirements. Yellow Corporation, for example, suggested a conversion period of three years, claiming it would reduce the overall costs to carriers and would provide adequate time for the training of enforcement officials. Other commenters, such as the NPTC and NAVL, contended that five years was a more appropriate phase-in period because many fleets turn over their equipment over that interval. They did support the provision in the NPRM requiring vehicles added to a fleet be marked with the USDOT number when placed into service.

FMCSA Response

The FMCSA has decided to proceed with the original time frames outlined in the NPRM. The final rule requires the motor carrier to display its USDOT number within two years of the effective date of this rule and its single trade name or DBA name within five years on CMVs that are currently in service. All new CMVs entering the fleet must meet all the marking requirements before being put into service. The FMCSA believes that these time frames will allow motor carriers to meet the marking requirements without creating either an administrative or economic hardship.

As stated previously, the FMCSA will eliminate the requirement for motor carriers to display the city and State on the side of their vehicles.

Marking of Driveaway and Short-Term Rental Vehicles

The ATC Leasing Company and the NATA requested that the provisions of § 390.407, which were written specifically to recognize the unique operational needs of driveaway combinations, be left intact. These commenters claim that the elimination of this section would not provide any economic or safety benefit to the public, but would burden those carriers that operate driveaway combinations with unnecessary and costly duplication.

UPS addressed the issue of marking short-term rental CMVs. UPS noted, among other things, that § 390.21(e) does not require the use of a temporary identification device.

FMCSA Response

The FMCSA agrees with the comments submitted by ATC Leasing and the NATA on behalf of the driveaway industry. The requirements of § 390.407 concerning removable devices are being retained and incorporated into § 390.21. The FMCSA responds to UPS that the proposed language for § 390.21(e) is substantially identical to that of the current § 390.23(e), except that the agency will no longer require display of the lessor's city or community and State. Neither the current nor the proposed regulation require use of a temporary identification device on short-term rental vehicles.

Contracts and Certificates of Insurance

The ATA, the NASTC, and approximately 170 motor carriers commented that many of their written contracts and certificates of insurance made available to the shipping public identify them by their MC number. They contend the FMCSA has not estimated the cost to the shipper and broker community of changing existing contracts to use a new system so that each motor carrier can be identified by a USDOT number. They also believe it is important for public warehousing purposes that the existing “MC number” in their contract appear on the door of the equipment making pickups. This allows verification that the freight is being tendered to the properly licensed and insured motor carrier with whom a contract was signed. The majority of the motor carriers commenting suggested the FMCSA allow “for hire” carriers to continue to use the MC number as a primary identifier for all aspects of their operation and let the private carriers continue to use the USDOT number.

FMCSA Response

There is no Federal requirement that motor carriers display their MC number on contracts or certificates of insurance. This practice was developed by the motor carrier industry for its own purposes and may be continued if the industry chooses. The regulation requires motor carriers to display the USDOT number on both sides of their power units. It does not require motor carriers to remove the MC number, although they are encouraged to refrain from displaying the MC number on new or repainted CMVs once the rule becomes final.

The FMCSA's use of the USDOT number for CMV identification is premised upon its use in a safety context. The MC number is used by the FMCSA, process agents, and insurance companies to track the process of a for-hire motor carrier's application for registration, status of insurance, and other requirements. The FMCSA's MCMIS includes both the MC and USDOT numbers, as do many other records used by motor carriers. Shippers and others can verify the identification of a for-hire motor carrier with the FMCSA online, or via telephone, using either number. Motor carriers should also make their clients aware of the change in the regulations. Taken together, these measures should aid them in verifying that the freight is being tendered to the properly licensed and insured motor carrier with whom a contract was signed.

States Assigning USDOT Numbers

The New York and the Iowa Departments of Transportation both commented on the States' issuance of interstate and intrastate USDOT numbers. Each State supports the use of the USDOT number as the unique identifier essential for tracking motor carrier safety performance data. In addition, both States wanted the final rule to make perfectly clear that States can issue USDOT numbers to both interstate and intrastate motor carriers. New York recommended the FMCSA provide batch filing to the States to convert intrastate carriers to a USDOT numbering system (using a unique State suffix). The NYDOT argued that the present system is too cumbersome and time consuming; it would take five years to convert all the intrastate carriers in New York to the USDOT number using the current mechanisms. New York says batch processing is an absolute must and the FMCSA should directly assist the States in converting intrastate carriers in as short a time frame as possible.

FMCSA Response

The States involved in the PRISM project have been given access to the MCMIS Census database to issue USDOT numbers to interstate carriers. As part of the project, prior to the issuance of International Registration Plan (IRP) documents, the entity registering vehicles is required to have a USDOT number and each vehicle must have a USDOT number assigned to it. If a carrier does not have a USDOT number at the time of registration, a Form MCS-150 must be provided so that the State can issue the USDOT number necessary to complete the vehicle registration process.

The FMCSA has given the States an option to issue USDOT numbers to their intrastate carriers. Currently, 11 States are adding the Form MCS-150 information for these carriers individually through direct access to the MCMIS Census database. The system issues a USDOT number as each carrier is entered into the database.

New York already has existing databases on their intrastate carriers and has requested that the FMCSA develop a process for the batch issuance of USDOT numbers. The FMCSA has developed procedures necessary to support this process and expects to begin pilot testing by mid-2000. The agency anticipates that the first test State will be New York and that the pilot test will last for several months. Assuming the pilot test is successful, other interested States will then be able to use this process.

Marking of Intermodal Container Chassis and Trailers

The South Carolina Trucking Association and the New Jersey Motor Truck Association requested the FMCSA to define an intermodal container chassis as a CMV and its owner as a motor carrier engaged in interstate commerce. They believe that intermodal chassis equipment is unique enough to require the owners to display their own USDOT number, and that this requirement would go a long way towards establishing responsibility for the care, maintenance, and condition of chassis equipment.

Bonanza Bus Lines recommends that all trailers display a USDOT number on both sides and on the rear.

FMCSA Response

Maintenance of intermodal container chassis and trailers is being addressed in a separate agency action, and will not be addressed in this final rule. In response to a petition filed by the ATA and the ATA Intermodal Conference, the agency published an ANPRM (64 FR 7849, February 17, 1999). The petitioners contended that motor carriers have minimal opportunity to maintain intermodal container chassis and that the parties who do have the opportunity often fail to do so. The FMCSA agreed to consider revisions to the requirements in parts 390 and 396 of the Federal Motor Carrier Safety Regulations (FMCSRs) that place upon motor carriers the responsibility for maintaining this equipment. As part of this process, the FMCSA held three public hearings in late 1999 to gather information on the extent of this problem and to receive feedback on the solution proposed by petitioners, i.e., to mandate joint responsibility between the “equipment provider” and the motor carrier for maintaining this type of intermodal equipment. The FMCSA will decide these issues and others raised by the commenters in the rulemaking involving intermodal containers, chassis and trailers. Accordingly, comments of the South Carolina Trucking Association and the New Jersey Motor Truck Association will be submitted to that docket for consideration.

With respect to Bonanza Bus Lines' comment, the NPRM did not consider marking of CMVs other than power units; extending its provisions to cover them would be beyond the scope of this rulemaking. The ICC first required self-propelled CMVs to be marked in 1954. The agency has undertaken several rulemakings concerning CMV marking in the last 12 years. Although the agency has occasionally received correspondence concerning marking of trailers, the FMCSA does not believe this additional marking is necessary.

Marking of Small For-Hire Passenger Vehicles

The Georgia Public Service Commission requested the FMCSA to clarify the marking requirements applicable to smaller for-hire passenger vehicles (designed to transport 7 to 15 passengers) that are subject to the FMCSA's registration requirements, but not to the remainder of the FMCSRs.

FMCSA Response

On September 3, 1999, the agency published an NPRM (64 FR 48518) concerning the applicability of specific provisions of the FMCSRs to this class of passenger vehicles. That action responded to congressional direction contained in section 4008(a) of the Transportation Equity Act of the 21st Century (TEA-21) (Pub. L. 105-178, 112 Stat. 107, June 9, 1999), which amended the definition of the term “commercial motor vehicle” found at 49 U.S.C. 31132 to cover vehicles “designed or used to transport more than 8 passengers (including the driver) for compensation.” Among other things, the September 3 NPRM proposed to require that motor carriers operating CMVs designed or used to transport between 9 and 15 passengers (including the driver) for compensation file a motor carrier identification report and mark their CMVs with a USDOT number and other identifying information (i.e., name or trade name and address of the principal place of business). In an interim final rule published that same day, the agency amended the statutory definition of a CMV to be consistent with the TEA-21 definition, but it exempted this class of motor carriers from the FMCSRs for six months, to allow the FMCSA time to gather additional information on this population of carriers and to complete the rulemaking action. The FMCSA is reviewing comments to that docket and plans to issue a final rule in the near future.

Marking of Pick-Up Trucks

The Colorado Department of Public Safety suggested the FMCSA adopt a rule that it has implemented. Many pick-up trucks do not meet the definition of a CMV except when pulling a trailer. Colorado allows the trailer, instead of the power unit, to be marked if the power unit has a GVWR of 10,000 pounds or less. This allows some farmers, contractors, and small businesses to use their vehicles for personal conveyance, such as vacations and errands. Many homeowner associations have covenants prohibiting commercial vehicles from parking in their residential areas. In many cases, this would include a pick-up subject to the present marking requirements in § 390.21.

FMCSA Response

The FMCSA believes that the power unit should carry the motor carrier identification. The motor carrier continues to have the responsibility for ensuring the trailer it accepts meets the safety requirements of the FMCSRs. Motor carriers who use their personal pick-ups for business purposes can affix temporary signs and remove them when necessary.

Vehicles Under Intermittent Lease and Short-Term Rental

The TRALA stated it supported the NPRM as written. The AMSA and NAVL requested the FMCSA to consider adding a new, unique rule that would address the household goods, intermittent lease issue. The main focus would mirror the concept adopted by the International Fuel Tax Agreement (IFTA) in that a vehicle leased intermittently to a household goods carrier would be allowed to display both the agent's and the motor carrier's marking information linked by the phrase “Interleased to.”

FMCSA Response

A special provision in the marking rule for the household goods industry is not necessary. If the industry wishes to display the household goods agent's name and authority number, in conjunction with the household goods carrier's name and USDOT number, the FMCSA would not object. The rule already allows for other identifying information to be displayed on the CMV as long as it is not inconsistent with the information required in § 390.21.

FMCSA Estimates of the Costs and Benefits

The FMCSA has completed a final regulatory evaluation (FRE) comparing the projected safety benefits of a retrofitting requirement to the potential economic impact on the motor carrier industry. The following discussion summarizes the FMCSA's analysis. A copy of the complete FRE is available for review in the docket.

Cost

This rule would require all former ICC motor common and contract carriers to mark their CMVs with a “USDOT Number” and the legal name of the business entity that owns or controls the motor carrier operation, or the “doing business as” name, as they appear on the Form MCS-150. Many carriers with authority from the former ICC already include their legal, or DBA name, on the both sides of their vehicles.

The vast majority of carriers will use either stencils or decals for marking, as these are the cheapest methods. The FMCSA assumed that small carriers will use individual stencil kits, medium carriers will use larger kits, and large carriers will use individually developed decals. Price estimates are shown in table 1. We assumed that changing a name is 50 percent more expensive than changing a DOT number.

The agency estimates that the average time to affix a DOT number would be about 12 minutes. Adding a new name was also assumed to require 12 minutes.

Because this is a simple procedure, we assumed that the marking would be placed by class 3 mechanics, at an average cost of $15 per hour. Therefore, the labor cost is $3 to apply a DOT number and an additional $3 for a name change. Table 1 displays these figures, along with the total labor and material cost.

The FMCSA has determined that the opportunity cost of this rule is negligible or nonexistent, for two reasons. First, vehicles will only be placed out of service for 12 to 36 minutes, which is too brief a period to have earned any measurable amount of revenue. Second, virtually all vehicles would be available at no opportunity cost (in non-revenue producing service and not being serviced) for 12 to 36 minutes sometime in the two-year phase-in period. Therefore, the FMCSA does not believe there is an opportunity cost associated with this rule.

Table 1.—Estimated Cost of Marking, by Carrier Size
Carrier size, by number of power units | Material cost, per vehicle: DOT number | Material cost, per vehicle: Name | Labor cost, per vehicle: DOT number | Labor cost, per vehicle: Name | Total cost, per vehicle
1-6 | $8 | $12 | $3 | $3 | $26
7-20 | 6 | 9 | 3 | 3 | 21
21-99 | 4 | 6 | 3 | 3 | 16
100-999 | 2 | 3 | 3 | 3 | 11
1000+ | 1 | 1.50 | 3 | 3 | 9
Unspecified | 6 | 9 | 3 | 3 | 21

There are 75,737 carriers with authority from the former ICC, but the ICC did not collect information about the number of vehicles operated per carrier. However, FMCSA's MCMIS has information on the number of power units per carrier.

Table 2 shows how the agency estimated the number of power units per carrier size class. We applied the MCMIS distribution of carriers by size to the 75,737 carriers registered by the former ICC. The first column shows the breakdown of for-hire carriers by number of power units from MCMIS. The term “unspecified” means that the FMCSA has no information on the number of vehicles operated by the motor carrier. The third column from the left shows the assumed number of carriers in each size group regulated by the former ICC. The last column shows the estimated number of power units in each size class. We assumed that unspecified carriers have at least three vehicles, since the FMCSA tends to have the least information about the smaller carriers.

Table 2.—Estimated Number of For-Hire Carriers and Vehicles Regulated by the Former ICC, by Carrier Size
Carriers by number of vehicles | Percent of MCMIS carriers | Estimated number of carriers regulated by former ICC | Estimated number of vehicles regulated by former ICC
1-6 | 55.2 | 41,800 | 87,665
7-20 | 10.1 | 7,624 | 88,109
21-99 | 5 | 3,772 | 158,033
100+ | 1 | 778 | 323,636
Unspecified | 28.7 | 21,763 | 65,289
Total | 100 | 75,737 | 722,732

Motor carriers are currently required to place either the MC or the USDOT number on their vehicles. In addition, the majority of carriers already display either their legal names or their DBA names. We were unable to locate any information concerning the percent of vehicles regulated by the former ICC that currently display a USDOT number or a legal, or DBA, name. For our baseline analysis, we conservatively estimated that only 10 percent of eligible carriers already display a USDOT number, while 80 percent already display their legal, or DBA, names. Therefore, the FMCSA estimates that 90 percent of eligible carriers or 650,458 vehicles will require a new DOT number (.9 × 722,732), and 20 percent of eligible carriers or 144,546 will need a new name (.2 × 722,732). If a greater percentage of vehicles already display either a DOT number or a valid name, the cost of this rule will be lower than the FMCSA's estimate.

The total undiscounted cost of this rule is $5.7 million. With a 7 percent discount rate and assuming that 1/x of all vehicles are marked each year (where x equals the phase-in period—two years to comply with the requirement to affix the USDOT number to both sides of their CMVs, and five years to comply with the additional requirements to display the legal name or a single trade name on the CMVs currently in their fleet) the total discounted cost equals $5 million. Table 3 shows the breakdown of costs by carrier size.

Table 3.—Undiscounted Cost of Proposal by Carrier Size
Size | Material | Labor | Total | Percent total cost | Per carrier
1-6 | $841,587 | $289,295 | $1,130,882 | 19.9 | $27.05
7-20 | 634,382 | 290,759 | 925,141 | 16.2 | 121.35
21-99 | 758,557 | 521,508 | 1,280,066 | 22.5 | 339.36
100+ | 607,416 | 1,067,999 | 1,675,4152 | 29.4 | 2,153.49
Unspecified | 470,079 | 215,453 | 685,532 | 12.0 | 31.50
Total | 3,312,021 | 2,385,014 | 5,697,036 | 100.0 | 2,672.75

Not surprisingly, the cost per carrier increases with carrier size. This rule would cost the smallest carriers (those with fewer than six power-units) about $27 and the largest carriers approximately $2,150. The same pattern is evident within each size class (i.e., carriers with one vehicle pay less than those with six). As a result of this, small carriers, which compose 65 percent of all carriers regulated by the former ICC, bear approximately 20 percent of the total cost of this rule.

Given the relatively modest cost of this rule, only a small number of accidents would need to be prevented to make it cost beneficial. We estimate that this rule would cost carriers $5.7 million (undiscounted), with the cost spread through the five years following promulgation. The DOT guidelines mandate use of a threshold value per fatality prevented of $2.7 million. Thus, the benefits of this rule would approximately equal the costs if two fatalities were prevented over five years. Other combinations of crashes avoided (fatality, injury, and property-damage-only) could also drive the benefits of this rule above its costs, with the precise figures depending on the severity of the non-fatality accidents. The FMCSA believes that this rule is based on a reasoned determination that the benefits justify the cost. The FMCSA also believes that this rule could lead to the prevention of a small number of accidents, and thus prove cost beneficial.

Benefits

The benefits of this rule, although significant, are difficult to quantify. The primary benefit would be an improvement in the FMCSA's ability to identify problem carriers and take action to reduce the potential for harm to the public from these carriers. The action taken would depend upon the severity of the problem. Extremely dangerous carriers, such as those with a consistently high out-of-service (OOS) rate or with a greater than expected number of accidents, could be forced to discontinue operations. Carriers with less severe problems could be targeted for educational outreach and other enforcement actions. While the FMCSA programs cannot entirely eliminate the threat from unsafe carriers, we believe they can help reduce the negligent behavior that leads to accidents. The extreme action of taking a carrier out of business would eliminate the dangerous behavior of risky carriers entirely.

The FMCSA is not aware of any alternatives which accomplish the same goals with less burden. The goal of this regulation is to improve the agency's ability to assign inspections and crashes to the correct motor carriers. To accomplish this goal, the agency must be able to correctly identify the operator of a motor vehicle during an inspection or after a crash. High tech identification methods exist, but they require vehicles to be equipped with a transponder that broadcasts a unique “fingerprint.” The cost of these units is significantly higher than the cost of adding a USDOT number or a new name to a power-unit. In addition, transponder readers would be needed to identify a vehicle's owner. While it would be possible (albeit expensive) to provide all inspectors with readers, this would be prohibitively expensive for accident investigators, given the large number of crashes, their geographic dispersion, and the number of police officers who report only a small number of crashes.

As an alternative to marking both sides of the CMV with the USDOT number, the agency also considered allowing a driver to maintain the required information on paper inside the vehicle. While this would be less expensive, there were several problems with this approach. First, drivers already maintain a number of documents with similar information, and they may have an incentive to provide an investigating officer with the incorrect document (or maintain that they do not have the appropriate document) under some circumstances. In addition, during crashes investigators may not have access to an onboard document due to such things as fires, jammed doors due to a crash, or a hazardous material spill.

In order to minimize the impact of this rule, the FMCSA is requiring a two-year phase-in period for the USDOT number requirement and a five-year phase-in for the legal name or single trade name requirement. This will give small carriers (and others) ample time to comply with the marking rule without significantly disrupting their operations.

The FMCSA's intention is not only to improve safety, but to achieve consistency and uniformity and lower the cost of enforcement and compliance for the government, the motor carrier industry, and the general public.

Rulemaking Analyses and Notices

Executive Order 12866 (Regulatory Planning and Review) and DOT Regulatory Policies and Procedures

The FMCSA has determined that this action is a significant regulatory action within the meaning of Executive Order 12866 and significant within the meaning of the Department of Transportation's regulatory policies and procedures. The FMCSA has prepared a final regulatory evaluation of the economic impact the regulatory changes will have on the motor carrier industry. A copy of the final regulatory evaluation is included in the docket file.

Prior to the elimination of the ICC, most for-hire motor carriers were required to obtain ICC authority in order to operate in interstate commerce. Carriers which were granted ICC operating authority were also given an ICC docket number, which they were required to display on both sides of each power unit.

Carriers are also required to display their name and address (city and State) on both sides of their power units. A carrier may display any name under which it operates. The address must be the principal place of business or the terminal where the vehicle is located.

The FMCSA uses the USDOT number to track carrier performance, primarily via the MCMIS, a mainframe computer system. It contains motor carrier data from a variety of sources: roadside inspections, accident reports, safety and compliance reviews, and enforcement actions.

The MCMIS is the linchpin of a number of the FMCSA's programs. Federal and State field personnel use the MCMIS to initiate enforcement actions and educational outreach programs. By using the data, potentially unsafe carriers can be targeted for attention, often including compliance reviews. Carriers could be flagged as unsafe if a high percentage of their vehicles were placed out-of-service during a roadside safety inspection, or if they experience an above average number of accidents. The FMCSA analysts and managers use the database for analysis purposes, including monitoring overall trends and evaluating program effectiveness.

In order to connect information from disparate sources, a unique identifier is required. For MCMIS, the USDOT number serves as the unique identifier. Without this number, there is no way to assign accidents, inspections, and other events to the correct motor carrier.

The existence of two identification numbers, the ICC/MC and the USDOT numbers, combined with a lack of consistency in the names displayed on vehicles, limits the effectiveness of the FMCSA's safety programs. Identification problems (such as those listed above) could result in a failure of the FMCSA to attribute a crash, or an OOS inspection, to the correct carrier. In FY 1996, the FMCSA was unable to match 12 percent of roadside inspections to the correct motor carrier. For accidents, the non-match rate was 30 percent. This failure rate means that the FMCSA is unaware of some carriers' poor safety records, and these carriers do not receive the attention their safety record merits, such as a safety review or educational assistance. As a result, crashes occur that this oversight might have forestalled.

In order to eliminate these problems and improve safety and the well-being of the public, the FMCSA is requiring all for-hire interstate carriers formerly regulated by the ICC to display their USDOT number on their vehicles (private carriers are already subject to this requirement). This rule would require all commercial motor vehicles, new or used, added to a motor carrier's fleet to have a USDOT number displayed after the effective date of this final rule. Owners of these vehicles would also be required to place either their legal name, or a single trade name, on their vehicles.

Existing vehicles which do not undergo a change in ownership would be required to display a USDOT number within two years of the effective date of this rule. Owners of existing vehicles would have five years to comply with the name requirements.

Regulatory Flexibility Act

In compliance with the Regulatory Flexibility Act (5 U.S.C. 601-612), the agency has evaluated the effects of this rule on small entities. The economic impacts of this rule are discussed in the regulatory flexibility analysis, a copy of which is in the docket. Based on its analysis, the FMCSA believes that this rule will affect a substantial number of small entities, but will not have a significant economic impact on them. In compliance with the Regulatory Flexibility Act, the FMCSA certifies that this rule will not have a significant economic impact on a substantial number of small entities.

The FMCSA estimates that 41,800 carriers with six or fewer power units will be covered by this regulation, as will another 7,600 with 7 to 20 power units. Our estimates indicate motor carriers with fewer than six power-units would absorb about 26 percent of all costs. This rule would cost the smallest carriers (those with fewer than six power-units) about $27 per vehicle. Those small motor carriers with 7 to 20 vehicles would incur a cost of $21 per vehicle. As a result of this, the smallest carriers, which compose 65 percent of all carriers regulated by the former ICC, bear approximately 20 percent of $5,696,036, the total cost of this proposal. The FMCSA does not see this as a substantial financial burden on small entities.

Executive Order 13132 (Federalism)

This action has been analyzed in accordance with the principles and criteria contained in Executive Order 13132. It has been determined that this rulemaking does not have a substantial direct effect on States, nor would it limit the policymaking discretion of the States. Nothing in this document directly preempts any State law or regulation.

Executive Order 12372 (Intergovernmental Review)

Catalog of Federal Domestic Assistance Program Number 20.217, Motor Carrier Safety. The regulations implementing Executive Order 12372 regarding intergovernmental consultation on Federal programs and activities do not apply to this program.

Paperwork Reduction Act

Under the Paperwork Reduction Act of 1995 (PRA) (44 U.S.C. 3501-3520), Federal agencies must obtain approval from the Office of Management and Budget (OMB) for each collection of information they conduct, sponsor, or require through regulations. An analysis of this rule has been made by the FMCSA, and it has been determined that it will affect the approved form (MCS-150) associated with a currently-approved information collection covered by OMB Control No. 2126-0013 (formerly 2125-0544). The wording in the Notice section of the MCS-150 will change; burden hours and numbers of respondents will not change as a result of this Final Rule. However, a revised estimate that reflects more accurate numbers of respondents and the time to complete the MCS-150 was done and submitted to the OMB in June 1999. The OMB approved that revision to the information collection on October 4, 1999; the approval period runs through October 31, 2002.

The NPRM that was published on June 16, 1998, solicited public comments on these information collection requirements as a component of the NPRM action. A summary of the comments that addressing the MCS-150 was previously provided to the OMB. Comments were neutral to favorable; in fact, several commenters asked the FMCSA to consider requiring motor carriers to provide regular updates of information contained in the MCS-150. A single State commenter contended that the MCS-150 contains superfluous information, discouraging States from using it to identify intrastate motor carriers. However, that State did not cite specific examples of data elements or information categories it believed to be confusing or redundant.

Section 390.19(a) changes the requirement of when Form MCS-150 must be filed from “within 90 days after beginning operations” to “before commencing operations.” This change will be reflected on Form MCS-150 in the Notice section on the form; however, it will not affect the burden hours for this information collection.

The NPRM also included a proposed requirement that certain motor carriers submit an updated Form MCS-150 to the FMCSA within 90 days from the effective date of the rule. This proposed, updated form would only have been required from those motor carriers that were using a name for their business that was not one of the two names on the MCS-150 had filed with the agency. The FMCSA has eliminated this proposed requirement from the final rule, along with the additional burden hours it would have created.

Estimated Annual Reporting Burden

Number of respondents: 50,000 @ 20 minutes per respondent.

Burden Hours: 16,667.

National Environmental Policy Act

The agency has analyzed this rulemaking for the purpose of the National Environmental Policy Act of 1969 (42 U.S.C. 4321 et seq.) and has determined that this action does not have any effect on the quality of the environment.

Unfunded Mandates Reform Act of 1995

This rule does not impose a Federal mandate resulting in the expenditure by State, local, or tribal governments, in the aggregate, or by the private sector, of $100 million or more in any one year. “2 U.S.C. 1531 et seq.”

Executive Order 12630 (Taking of Private Property)

This rule will not effect a taking of private property or otherwise have taking implications under E.O. 12630, Governmental Actions and Interference with Constitutional Protected Property Rights.

Executive Order 12988 (Civil Justice Reform)

This action meets applicable standards in sections 3(a) and 3(b)(2) of E.O. 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects

49 CFR Part 385

Highway safety, Motor carriers, Motor vehicle safety.

49 CFR Part 390

Highway safety, Motor carriers, Motor vehicle identification and marking, Reporting and recordkeeping requirements.

Issued on: May 25, 2000.
Clyde J. Hart, Jr.,
Acting Deputy Administrator.

In consideration of the foregoing, the FMCSA amends title 49, Code of Federal Regulations, chapter III, parts 385 and 390, as follows:

PART 385—SAFETY FITNESS PROCEDURES

1. The authority citation for part 385 continues to read as follows:

Authority: 49 U.S.C. 104, 504, 521(b)(5)(A), 5113, 31136, 31144, 31502; and 49 CFR 1.73.

§§ 385.21 and 385.23 [Removed]

2. Remove §§ 385.21 and 385.23.

Appendix A to Part 385—[Removed and Reserved]

3. Remove and reserve appendix A to part 385, Form MCS-150, Motor Carrier Identification Report.

PART 390—FEDERAL MOTOR CARRIER SAFETY REGULATIONS; GENERAL [AMENDED]

4. The authority citation for part 390 is revised to read as follows:

Authority: 49 U.S.C. 13301, 13902, 31132, 31133, 31136, 31502, 31504; and sec. 204, Pub. L. 104-88, 109 Stat. 803, 941 (49 U.S.C. 701 note); and 49 CFR 1.73.

§ 390.19 [Redesignated as § 390.17]

5. Redesignate § 390.19 as § 390.17.

6. A New § 390.19 reads as follows:

§ 390.19 Motor carrier identification report.

(a) All motor carriers conducting operations in interstate commerce shall file a Motor Carrier Identification Report, Form MCS-150, before commencing operations.

(b) The Motor Carrier Identification Report, Form MCS-150, with complete instructions, is available from all FMCSA Service Centers and Division offices nationwide and from the FMCSA's web site at: http://www.mcs.dot.gov/factsfigs/formspubs.htm or by calling 1-800-832-5660.

(c) The completed Motor Carrier Identification Report, Form MCS-150, shall be filed with the FMCSA's Office of Data Analysis and Information Systems, 400 Seventh Street, SW., Washington, DC 20590. A for-hire motor carrier should submit the Form MCS-150 along with its application for operating authority (Form OP-1) to the appropriate address referenced on that form or may submit it separately to the address mentioned in this section.

(d) Only the legal name or a single trade name of the motor carrier may be used on the motor carrier identification report (Form MCS-150).

(e) A motor carrier that fails to file a Motor Carrier Identification Report, Form MCS-150, or furnishes misleading information or makes false statements upon Form MCS-150, is subject to the penalties prescribed in 49 U.S.C. 521(b)(2)(B).

(f) Upon receipt and processing of the Motor Carrier Identification Report, Form MCS-150, the FMCSA will issue the motor carrier an identification number (USDOT number). The motor carrier must display the number on each self-propelled CMV, as defined in § 390.5, along with the additional information required by § 390.21.

[Approved by the Office of Management and Budget under control number 2126-0013]

7. Revise § 390.21 to read as follows:

§ 390.21 Marking of CMVs.

(a) General. Every self-propelled CMV, as defined in § 390.5, subject to subchapter B of this chapter must be marked as specified in paragraphs (b), (c), and (d) of this section.

(b) Nature of marking. The marking must display the following information:

(1) The legal name or a single trade name of the motor carrier operating the self-propelled CMV, as listed on the motor carrier identification report (Form MCS-150) and submitted in accordance with § 390.19.

(2) The motor carrier identification number issued by the FMCSA, preceded by the letters “USDOT”.

(3) If the name of any person other than the operating carrier appears on the CMV, the name of the operating carrier must be followed by the information required by paragraphs (b)(1), and (2) of this section, and be preceded by the words “operated by.”

(4) Other identifying information may be displayed on the vehicle if it is not inconsistent with the information required by this paragraph.

(5) Each motor carrier shall meet the following requirements pertaining to its operation:

(i) All CMVs that are part of a motor carrier's existing fleet on July 3, 2000, and which are marked with an ICCMC number must come into compliance with paragraph (b)(2) of this section by July 3, 2002.

(ii) All CMVs that are part of a motor carrier's existing fleet on July 3, 2000, and which are not marked with the legal name or a single trade name on both sides of their CMVs, as shown on the Motor Carrier Identification Report, Form MCS-150, must come into compliance with paragraph (b)(1) of this section by July 5, 2005.

(iii) All CMVs added to a motor carrier's fleet on or after July 3, 2000, must meet the requirements of this section before being put into service and operating on public ways.

(c) Size, shape, location, and color of marking. The marking must—

(1) Appear on both sides of the self-propelled CMV;

(2) Be in letters that contrast sharply in color with the background on which the letters are placed;

(3) Be readily legible, during daylight hours, from a distance of 50 feet (15.24 meters) while the CMV is stationary; and

(4) Be kept and maintained in a manner that retains the legibility required by paragraph (c)(3) of this section.

(d) Construction and durability. The marking may be painted on the CMV or may consist of a removable device, if that device meets the identification and legibility requirements of paragraph (c) of this section, and such marking must be maintained as required by paragraph (c)(4) of this section.

(e) Rented CMVs. A motor carrier operating a self-propelled CMV under a rental agreement having a term not in excess of 30 calendar days meets the requirements of this section if:

(1) The CMV is marked in accordance with the provisions of paragraphs (b) through (d) of this section; or

(2) The CMV is marked as set forth in paragraph (e)(2)(i) through (iv) of this section:

(i) The legal name or a single trade name of the lessor is displayed in accordance with paragraphs (c) and (d) of this section.

(ii) The lessor's identification number preceded by the letters “USDOT” is displayed in accordance with paragraphs (c) and (d) of this section; and

(iii) The rental agreement entered into by the lessor and the renting motor carrier conspicuously contains the following information:

(A) The name and complete physical address of the principal place of business of the renting motor carrier;

(B) The identification number issued the renting motor carrier by the FMCSA, preceded by the letters “USDOT,” if the motor carrier has been issued such a number. In lieu of the identification number required in this paragraph, the following may be shown in the rental agreement:

(1) Information which indicates whether the motor carrier is engaged in “interstate” or “intrastate” commerce; and

(2) Information which indicates whether the renting motor carrier is transporting hazardous materials in the rented CMV;

(C) The sentence: “This lessor cooperates with all Federal, State, and local law enforcement officials nationwide to provide the identity of customers who operate this rental CMV'; and

(iv) The rental agreement entered into by the lessor and the renting motor carrier is carried on the rental CMV during the full term of the rental agreement. See the leasing regulations at 49 CFR 376 for information that should be included in all leasing documents.

(f) Driveaway services. In driveaway services, a removable device may be affixed on both sides or at the rear of a single driven vehicle. In a combination driveaway operation, the device may be affixed on both sides of any one unit or at the rear of the last unit. The removable device must display the legal name or a single trade name of the motor carrier and the motor carrier's USDOT number.

8. Revise § 390.27 to read as follows:

§ 390.27 Locations of motor carrier safety service centers.

Service center | Territory included | Location of office
Eastern | CT, DC, DE, MA, MD, ME, NJ, NH, NY, PA, PR, RI, VA, VT, WV | City Crescent Building, #10 South Howard Street, Suite 4000, Baltimore, MD 21201-2819.
Midwestern | IA, IL, IN, KS, MI, MO, MN, NE, OH, WI | 19900 Governors Drive, Suite 210, Olympia Fields, IL 60461-1021.
Southern | AL, AR, FL, GA, KY, LA, MS, NC, NM, OK, SC, TN, TX | 61 Forsyth Street, SW, Suite 17T75, Atlanta, GA 30303-3104.
Western | American Samoa, AK, AZ, CA, CO, Guam, HI, ID, Mariana Islands, MT, ND, NV, OR, SD, UT, WA, WY | 201 Mission Street, Suite 2100, San Francisco, CA 94105-1838.

§§ 390.401, 390.403, 390.405 and 390.407 (Subpart D) [Removed]

9. In part 390, remove subpart D, consisting of §§ 390.401, 390.403, 390.405 and 390.407.

[FR Doc. 00-13697 Filed 6-1-00; 8:45 am]

BILLING CODE 4910-22-P